NATIONAL AERONAUTICS AND SPACE ADMINISTRATION

[Notice: 15-039]

Notice of Centennial Challenges 3D Printed Habitat Challenge—Design Competition

AGENCY: National Aeronautics and Space Administration (NASA).

ACTION: Notice of Centennial Challenges 3D Printed Habitat Challenge—Design Competition.

SUMMARY: This notice is issued in accordance with 51 U.S.C. 20144(c). The 3D Printed (3DP) Habitat Challenge—Design Competition is scheduled and teams that wish to compete may now register. Centennial Challenges is a program of prize competitions to stimulate innovation in technologies of interest and value to NASA and the nation. The 3DP Habitat Challenge is a prize competition designed to encourage development of new technologies, or application of existing technologies, in unique ways to advance additive construction systems and to advance multi-material usage. NASA is providing the prize purse.

DATES: The Design Competition registration opens May 16, 2015, and the competition will conclude on September 27, 2015.

ADDRESSES: The 3DP Habitat Challenge—Design Competition will initially be conducted virtually via electronic submissions. After a scored down select process, the remaining submissions will compete at the New York City Maker Faire.

FOR FURTHER INFORMATION CONTACT: To register for or get additional information regarding the 3D Printed Habitat Challenge—Design Competition, please visit: http://AmericaMakes.us/Challenge.

For general information on the NASA Centennial Challenges Program please visit: http://www.nasa.gov/challenges. General questions and comments regarding the program should be addressed to Sam Ortega, Centennial Challenges Program, NASA Marshall Space Flight Center Huntsville, AL 35812. Email address: hq-stmd-centennialchallenges@mail.nasa.gov.

SUPPLEMENTARY INFORMATION:

Summary

Competitors will design habitats making full (better) use of additive construction (manufacturing) processes and techniques. Designs will be rated on concept, innovation, documentation, habitability, constructability, functionality, energy efficiency, and public appeal. Prizes will be awarded for first, second, and third place based on subject matter expert scoring and public voting.

I. Prize Amounts

The total 3DP Habitat Challenge Design Competition prize purse is $50,000 (fifty thousand U.S. dollars). First place will receive $25,000 (twenty-five thousand U.S. dollars). Second place will receive $15,000 (fifteen thousand U.S. dollars). Third place will receive $10,000 (ten thousand U.S. dollars). Entries must meet specific requirements detailed in the Rules to be eligible for prize awards.

II. Eligibility

To be eligible to win a prize, competitors must;

(1) Register and comply with all requirements in the rules and competitor agreement;

(2) In the case of a private entity, shall be incorporated in and maintain a primary place of business in the United States, and in the case of an individual, whether participating singly or in a group, shall be a citizen or permanent resident of the United States; and

(3) Not be a Federal entity or Federal employee acting within the scope of their employment.

III. Rules

The complete rules for the 3DP Habitat Challenge—Design Competition can be found at: http://AmericaMakes.us/Challenge.

Cheryl Parker,
NASA Federal Register Liaison Officer.

[FR Doc. 2015-11727 Filed 5-14-15; 8:45 am]

BILLING CODE 7510-13-P